SMALL BUSINESS ADMINISTRATION

[Declaration of Disaster #3438]

State of California (Corrected Copy)

San Diego County and the contiguous counties of Imperial, Orange and Riverside in the State of California constitute a disaster area as a result of a wildfire that occurred on July 29, 2002 and continued until the wildfire was contained on August 12, 2002. The wildfire occurred in the Banner Grade area of San Diego County and consumed 65,000 acres, destroying owner occupied homes, outbuildings and vehicles. Applications for loans for physical damage as a result of this disaster may be filed until the close of business on October 21, 2002 and for economic injury until the close of business on May 22, 2003 at the address listed below or other locally announced locations: Small Business Administration, Disaster Area 4 Office, PO Box 13795, Sacramento, CA 95853-4795.

The interest rates are:

| Percent
For Physical Damage:
Homeowners with credit available elsewhere | 6.625
Homeowners without credit available elsewhere | 3.312
Businesses with credit available elsewhere | 7.000
Businesses and non-profit organizations without credit available elsewhere | 3.500
Others (including non-profit organizations) with credit available elsewhere | 6.375
For Economic Injury:
Businesses and small agricultural cooperatives without credit available elsewhere | 3.500

The number assigned to this disaster for physical damage is 343805 and for economic damage is 9Q9300.

(Catalog of Federal Domestic Assistance Program Nos. 59002 and 59008.)
Dated: August 22, 2002.
Hector V. Barreto,
Administrator.

[FR Doc. 02-22348 Filed 8-30-02; 8:45 am]

BILLING CODE 8025-01-P